DEPARTMENT OF ENERGY

Federal Energy Regulatory Commission

[Docket No. ER06-18-000]

Midwest Independent Transmission System Operator, Inc.; Supplemental Notice of Technical Conference

April 6, 2006.

As announced in the Notice of Technical Conference issued on March 17, 2006, the Commission will hold a technical conference on April 21, 2006 in the Commission Meeting Room of the Federal Energy Regulatory Commission, 888 First Street, NE., Washington, DC, regarding the Midwest Independent Transmission System Operator Inc.'s (Midwest ISO) proposed cost allocation policy, as it pertains to the degree of regional cost sharing for reliability projects at 345 kV and above, pursuant to the Commission Order issued on February 3, 2006.¹

¹ Midwest Independent Transmission System Operator, Inc., 114 FERC ¶ 61,106 (2006).

Please note that the time of the conference has been changed. The technical conference will begin at 1 p.m. (EDT) and conclude at approximately 5:15 p.m.

This supplemental notice provides additional information and an agenda for the conference. Members and staff of the Federal Energy Regulatory Commission are expected to participate. The conference will be open for the public to attend and advanced registration is not required.

The conference will be transcribed. A transcript of the conference will be immediately available from Ace Reporting Company ((202) 347-3700 or (800) 336-6646) for a fee. It will be available for the public on the Commission's eLibrary system seven (7) calendar days after FERC receives the transcript. Additionally, Capitol Connection offers the opportunity for remote listening and viewing of the conference. It is available for a fee, live over the Internet, by phone or via satellite. Persons interested in receiving the broadcast or who need information on making arrangements should contact David Reininger or Julia Morelli at the Capitol Connection (703) 993-3100) for information about this service as soon as possible or visit the Capitol Connection Web site at http://www.capitolconnection.org and click on “FERC.”

FERC conferences are accessible under section 508 of the Rehabilitation Act of 1973. For accessibility accommodations please send an e-mail to accessibility@ferc.gov or call toll free 866-208-3372 (voice) or 202-208-1659 (TTY), or send a FAX to 202-208-2106 with the required accommodations.

For more information about the conference, please contact either Patrick Clarey at (317) 249-5937 or at patrick.clarey@ferc.gov or Eli Massey at (202) 502-8494 or at eli.massey@ferc.gov.

Magalie R. Salas,
Secretary.

Cost Allocation Methodology for High Voltage Baseline Reliability Projects in the Midwest ISO Region

April 21, 2006 Commission Technical Conference Agenda ²

Welcome: 1 p.m.-1:15 p.m.

² This agenda may change. The Commission will issue a further notice of such changes if time permits.

Panel 1: 1:15 p.m.-3 p.m.

The Commission will request that the Midwest Independent Transmission System Operator, Inc. (Midwest ISO) and certain entities that participated in the Midwest ISO's Regional Expansion Criteria and Benefits Task Force (RECB Task Force) present information regarding the basis for the cost allocation methodology for high voltage Baseline Reliability Projects and how the RECB Task Force established the proposal.

Break: 3 p.m.-3:15 p.m.

Panel 2: 3:15 p.m.-5 p.m.

The Commission will invite entities outside the RECB Task Force process to express their perspectives on the proposed cost allocation methodology. The Commission seeks input as to whether the cost allocation methodology arising from the RECB Task Force for high voltage Baseline Reliability Projects is just and reasonable, and if it is not, what cost allocation methodology for high voltage Baseline Reliability Projects would produce just and reasonable results.

Closing Remarks: 5 p.m.-5:15 p.m.

Unless otherwise notified, panelists should limit presentations to no more than five (5) minutes. The Commissioners may ask questions at the conclusion of presentations. If time permits, the audience may also ask questions of the panelists at the conclusion of the Commissioners' questions. Panelists wishing to distribute copies of their presentation should e-mail an electronic copy of their presentation one week prior to the conference to Patrick Clarey and Eli Massey and bring 100 or more hard copies to the conference for distribution. Any such presentation will be placed into the record for this docket. All parties to this proceeding may file comments on the technical conference by close of business on May 5, 2006.

[FR Doc. E6-5441 Filed 4-12-06; 8:45 am]

BILLING CODE 6717-01-P